DEPARTMENT OF COMMERCE

National Oceanic and Atmospheric Administration

RIN 0648-XG179

North Pacific Fishery Management Council; Public Meeting

AGENCY: National Marine Fisheries Service (NMFS), National Oceanic and Atmospheric Administration (NOAA), Commerce.

ACTION: Notice of public meeting.

SUMMARY: The North Pacific Fishery Management Council (Council) Crab Plan Team (CPT) will meet May 8, 2018 through May 10, 2018.

DATES: The meeting will be held on Tuesday, May 8, 2018 through Thursday, May 10, 2018, from 9 a.m. to 5 p.m.

ADDRESSES: The meeting will be held at the Hilton Hotel in the Aspen/Spruce Room, 500 W 3rd Ave., Anchorage, AK 99501.

Council address: North Pacific Fishery Management Council, 605 W 4th Ave., Suite 306, Anchorage, AK 99501-2252; telephone: (907) 271-2809.

FOR FURTHER INFORMATION CONTACT: Diana Stram, Council staff; telephone: (907) 271-2809.

SUPPLEMENTARY INFORMATION:

Agenda

Tuesday, May 8, 2018 Through Thursday, May 10, 2018

The CPT will review and make recommendations on: Aleutian Island golden king crab (AIGKC) final stock assessment, including OFL and ABC recommendations, Research Priorities, Crab bycatch data implications in assessments, Terminal year retrospective analysis, Dynamic B0 calculation, Status of PIBKC assessment timing, Additional issues with Stock Prioritization, Norton Sound red king crab commercial and subsistence fisheries overview and review of observer program data and Tier 3 considerations for the stock; and model scenarios for 2018 assessments for Bristol Bay red king crab, Tanner crab, snow crab and Saint Matthew blue king crab.

The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Dated: April 19, 2018.
Tracey L. Thompson,
Acting Deputy Director, Office of Sustainable Fisheries, National Marine Fisheries Service.

[FR Doc. 2018-08496 Filed 4-23-18; 8:45 am]

BILLING CODE 3510-22-P